SURFACE TRANSPORTATION BOARD

[Docket No. FD 36313]

Cando Rail Services, Inc.—Acquisition and Operation Exemption—Georgia-Pacific Consumer Operations, LLC

Cando Rail Services, Inc. (CRS), a noncarrier, has filed a verified notice of exemption ¹ under 49 CFR 1150.31 to acquire from Georgia-Pacific Consumer Operations, LLC (GP), via a Switching Services Agreement, approximately 115,104 feet (21.8 miles) of existing railroad right-of-way, trackage, and transloading facilities at GP's Crossett Transload Facility in Crossett, Ark. (the Line).²

¹ CRS also filed a motion for protective order, which will be addressed in a separate decision.

² According to CRS, there are no mileposts associated with the line.

CRS states that it will, pursuant to the Switching Services Agreement, provide freight car switching services for GP at the Crossett Transload Facility. CRS states that it will interchange outbound rail cars with Kansas City Southern Railroad. CRS explains that the Crossett Transload Facility receives timber and raw lumber which principally arrives by truck. CRS further explains that the lumber is converted into various products, the largest being paper products, which are then shipped out of the facility by rail.

CRS certifies that its projected annual revenues as a result of this transaction will not exceed those that would qualify it as a Class III carrier and will not exceed $5 million. CRS also certifies that the applicable agreement does not include any interchange commitment.

The transaction may be consummated on or after August 17, 2019 (30 days after the verified notice was filed).³

³ CRS filed its original verified notice of exemption on July 10, 2019, a supplement on July 11, 2019, and an amended verified notice on July 18, 2019. July 18 therefore is deemed the filed date.

If the verified notice contains false or misleading information, the exemption is void ab initio. Petitions to revoke the exemption under 49 U.S.C. 10502(d) may be filed at any time. The filing of a petition to revoke will not automatically stay the effectiveness of the exemption. Petitions for stay must be filed no later than August 9, 2019 (at least seven days before the exemption becomes effective).

All pleadings, referring to Docket No. FD 36313, must be filed with the Surface Transportation Board either via e-filing or in writing addressed to 395 E Street SW, Washington, DC 20423-0001. In addition, a copy of each pleading must be served on CRS's representative, David C. Dillon, Dillon &Nash, Ltd., 3100 Dundee Road, Suite 508, Northbrook, IL 60062.

Board decisions and notices are available at www.stb.gov.

Decided: July 30, 2019.
By the Board, Scott M. Zimmerman, Acting Director, Office of Proceedings.
Jeffrey Herzig,
Clearance Clerk.

[FR Doc. 2019-16557 Filed 8-1-19; 8:45 am]

BILLING CODE 4915-01-P